DEPARTMENT OF STATE

[Public Notice 7516]

Privacy Act; System of Records Notice: State-26, Passport Records

SUMMARY: Notice is hereby given that the Department of State proposes to amend an existing system of records, Passport Records, State-26, pursuant to the provisions of the Privacy Act of 1974, as amended (5 U.S.C. 552a) and Office of Management and Budget Circular No. A-130, Appendix I. The Department's report was filed with the Office of Management and Budget on June 15, 2011.

It is proposed that the current system will retain the name “Passport Records.” It is also proposed that the amended system description will include revisions/additions to the following sections: Categories of individuals; Categories of records; Routine uses; Retrievability; Safeguards; System manager and address; Systems exempted from certain provisions of the Act; and other administrative updates. The following sections have been added to the system of records, Passport Records, State-26, to ensure Privacy Act of 1974 compliance: Purpose and Contesting Records Procedures. Any persons interested in commenting on the amended system of records may do so by writing to the Director, Office of Information Programs and Services, A/GIS/IPS, Department of State, SA-2, 515 22nd Street, Washington, DC 20522-8001. This system of records will be effective 40 days from the date of publication, unless we receive comments that will result in a contrary determination.

The amended system description, “Passport Records, State-26,” will read as set forth below.

Dated: June 16, 2011.
William H. Moser,
Deputy Assistant Secretary for Logistics Management, Bureau of Administration, U.S. Department of State.

STATE-26

SYSTEM NAME:

Passport Records.

SECURITY CLASSIFICATION:

Classified and Unclassified.

SYSTEM LOCATION:

Department of State; Passport Services; State Annex 17; 1111 19th Street, NW., Washington, DC 20522-1705.

CATEGORIES OF INDIVIDUALS COVERED BY THE SYSTEM:

Records are maintained in the Passport Records system about individuals who:

(a) Have applied for the issuance, amendment, extension, or renewal of U.S. passport books and passport cards;

(b) Were issued U.S. passport books or passport cards, or had passports amended, extended, renewed, limited, revoked, or denied;

(c) Have applied to have births overseas reported as births of U.S. citizens overseas;

(d) Were issued a Consular Report of Birth Abroad of U.S. citizens or for whom Certification(s) of Birth have been issued;

(e) Were born and/or died in the former Panama Canal Zone;

(f) Applied at American diplomatic or consular posts for registration and have so registered;

(g) Were issued Cards of Registration and Identity as U.S. citizens;

(h) Were issued Certificates' of Loss of Nationality of the United States by the Department of State;

(i) Applied at American diplomatic or consular posts for issuance of Certificates of Witness to marriage and individuals who have been issued Certificates of Witness to Marriage;

(j) Deceased individuals for whom a Report of Death of an American Citizen Abroad has been obtained;

(k) Although U.S. citizens, are not or may not be entitled under relevant passport laws and regulations to the issuance or possession of U.S. passport books, passport cards, or other documentation nor service(s);

(l) Have previous passport records that must be reviewed before further action can be taken or their passport application or request for other consular services;

(m) Requested their own or another's passport records under FOIA or Privacy Act, whether successfully or not; or

(n) Have corresponded with Passport Services concerning various aspects of the issuance or denial of a specific applicant's U.S. passport books or passport cards.

CATEGORIES OF RECORDS IN THE SYSTEM:

Passport Services maintains U.S. passport records for passports issued from 1925 to present, as well as vital records related to births abroad, deaths, and witnesses to marriage abroad. The passport records system does not maintain evidence of travel such as entrance/exit stamps, visas, or residence permits, since this information is entered into the passport book after it is issued. The passport records system includes the following categories of records:

(a) Passport books and passport cards, applications for passport books and passport cards, and applications for additional visa pages, amendments, extensions, replacements, and/or renewals of passport books or passport cards (including all information and materials submitted as part of or with all such applications, to the extent retained by the Department);

(b) Applications for registration at American diplomatic and consular posts as U.S. citizens or for issuance of Cards of Identity and Registration as U.S. Citizens;

(c) Consular Reports of Birth Abroad of United States citizens;

(d) Panama Canal Zone birth certificates and death certificates;

(e) Certificates of Witness to Marriage;

(f) Certificates of Loss of United States nationality;

(g) Oaths of Repatriation;

(h) Consular Certificates of Repatriation;

(i) Reports of Death of an American Citizen Abroad;

(j) Cards of Identity and Registration as U.S. citizens;

(k) Lookout files which identify those persons whose applications for a consular or related services required other than routine examination or action;

(l) Lost, Stolen or Revoked passport status; and/or

(m) Miscellaneous materials, which are documents and/or records maintained separately, if not in the application, including but not limited to the following types of documents:

• Investigatory reports compiled in connection with granting or denying passport and related services or prosecuting violations of passport criminal statutes;

• Transcripts and opinions on administrative hearings, appeals and civil actions in Federal courts;

• Legal briefs, memoranda, judicial orders and opinions arising from administrative determinations relating to passports and citizenship;

• Birth and baptismal certificates;

• Copies of state-issued driver's licenses and identity cards;

• Court orders;

• Arrest warrants;

• Medical, personal and financial reports;

• Affidavits;

• Inter-agency and intra-agency memoranda, telegrams, letters and other miscellaneous correspondence;

• An electronic index of all passport applications records created since 1978, and passport applications records created between 1962 and 1978; and/or

• An electronic index of Department of State Reports of Birth of American Citizens abroad.

AUTHORITY FOR MAINTENANCE OF THE SYSTEM:

(a) 8 U.S.C. 1401-1503 (2010) (Acquisition and Loss of U.S. Citizenship or U.S. Nationality; Use of U.S. Passport);

(b) 18 U.S.C. 911, 1001, 1541-1546 (2010) (Crimes and Criminal Procedure);

(c) 22 U.S.C. 211a-218, 2651a, 2705 (2010); Executive Order 11295, August 5, 1966, 31 FR 10603 (Authority of the Secretary of State in granting and issuing U.S. passports); and

(d) 8 U.S.C. 1185 (2010) (Travel Control of Citizens).

PURPOSE(S):

The information maintained in the Passport Services records is used to establish the U.S. citizenship and identity of persons for a variety of legal purposes including, but not limited to, the adjudication of passport applications and requests for related services, social security benefits, employment applications, estate settlements, and Federal and state law enforcement and counterterrorism purposes.

ROUTINE USES OF RECORDS MAINTAINED IN SYSTEM, INCLUDING CATEGORIES OF USERS AND PURPOSES OF SUCH USES:

The principal users of this information outside the Department of State include the following users:

(a) Department of Homeland Security for border patrol, screening, and security purposes; law enforcement, counterterrorism, and fraud prevention activities; and for verification of passport validity to support employment eligibility and identity corroboration for public and private employment;

(b) Department of Justice, including the Federal Bureau of Investigation, the Bureau of Alcohol, Tobacco, Firearms and Explosives, the U.S. Marshals Services, and other components, for law enforcement, counterterrorism, border security, fraud prevention, and criminal and civil litigation activities;

(c) Internal Revenue Service for the mailing and permanent addresses of specifically identified taxpayers in connection with pending actions to collect taxes accrued, for examinations, and/or other tax-related assessment and collection activities; and an annual transmission of certain data from the applications of those U.S. citizens residing abroad consistent with applicable requirements of 26 U.S.C. Section 6039E;

(d) INTERPOL and other international organizations for law enforcement, counterterrorism, fraud prevention, and criminal activities related to lost and stolen passports;

(e) National Counterterrorism Center to support strategic operational planning and counterterrorism intelligence activities;

(f) Office of Personnel Management (OPM), other Federal agencies, or contracted outside entities to support the investigations OPM, other Federal agencies and contractor personnel conduct for the Federal government in connection with verification of employment eligibility and/or the issuance of a security clearance;

(g) Social Security Administration to support employment-eligibility verification for public and private employers and for support in verification of social security numbers used in processing U.S. passport applications;

(h) Federal law enforcement and intelligence agencies to support their efforts in identifying, verifying identity, and investigating individuals potentially involved in or associated with criminal or terrorist activities and individuals with other ties or connections to terrorism who may pose a threat to the United States;

(i) Federal, state, local, or other agencies having information on an individual's history, nationality, or identity, to the extent necessary to obtain information from these agencies relevant to adjudicating an application for a passport or related service, or where there is reason to believe that an individual has applied for or is in possession of a U.S. passport fraudulently or has violated the law;

(j) Federal, state, local or other agencies for use in legal proceedings as government counsel deems appropriate, in accordance with any understanding reached by the agency with the U.S. Department of State;

(k) Public and private employers seeking to confirm the authenticity of the U.S. passport when it is presented as evidence of identity and eligibility to work in the United States;

(l) Immediate family members when the information is required by an individual of the immediate family;

(m) Private U.S. citizen “wardens” designated by U.S. embassies and consulates to serve, primarily in emergency and evacuation situations, as channels of communication with other U.S. citizens in the local community;

(n) Attorneys representing an individual in administrative or judicial passport proceedings when the individual to whom the information pertains are the client of the attorney making the request;

(o) Members of Congress when the information is requested on behalf of or at the request of the individual to whom the record pertains;

(p) Contractor personnel conducting data entry, scanning, corrections, and modifications on behalf of an entity, and for a purpose, otherwise covered by this notice;

(q) Commercial vendors conducting applicant identity verification against commercial databases upon request of the Department of State;

(r) Foreign governments, to permit such governments to fulfill passport control and immigration duties and their own law enforcement, counterterrorism, and fraud prevention functions, and to support U.S. law enforcement, counterterrorism, and fraud prevention activities; and

(s) Government agencies other than the ones listed above that have statutory or other lawful authority to maintain such information may also receive access on a need-to-know basis; however, all information is made available to users only for a previously-established routine use.

The Department of State periodically publishes in the Federal Register its standard routine uses that apply to all of its Privacy Act systems of records. These notices appear in the form of a Prefatory Statement. These standard routine uses apply to the Passport Records, State-26.

POLICIES AND PRACTICES FOR STORING, RETRIEVING, ACCESSING, RETAINING AND DISPOSING OF RECORDS IN THE SYSTEM:

STORAGE:

Hard copy and electronic media.

RETRIEVABILITY:

By individual name, social security number, passport book or passport card number.

SAFEGUARDS:

All users are given cyber security awareness training which covers the procedures for handling Sensitive but Unclassified information, including personally identifiable information (PII). Annual refresher training is mandatory. In addition, all Foreign Service and Civil Service employees and those Locally Engaged Staff (LES) who handle PII are required to take the FSI distance learning course instructing employees on privacy and security requirements, including the rules of behavior for handling PII and the potential consequences if it is handled improperly. Before being granted access to, Passport Records a user must first be granted access to the Department of State computer system.

Remote access to the Department of State network from non-Department owned systems is authorized only through a Department-approved access program. Remote access to the network is configured with the Office of Management and Budget Memorandum M-07-16 security requirements, which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel. Access to computerized files is password-protected and under the direct supervision of the system manager. The system manager has the capability of printing audit trails of access from the computer media, thereby permitting regular and ad hoc monitoring of computer usage.

When it is determined that a user no longer needs access, the user account is disabled.

RETENTION AND DISPOSAL:

Retention of these records varies depending upon the specific record involved. They are retired or destroyed in accordance with published record schedules of the Department of State and as approved by the National Archives and Records Administration. More specific information may be obtained by writing to the Director; Office of Information Programs and Services; A/GIS/IPS; SA-2; Department of State; 515 22nd Street, NW., Washington, DC 20522-8100.

SYSTEM MANAGER AND ADDRESS:

Deputy Assistant Secretary of State for Passport Services; Room 6811; Department of State; 2201 C Street, NW., Washington DC 20520-4818.

NOTIFICATION PROCEDURE:

An individual seeking to determine whether Passport Services maintains records must submit a signed and notarized written request including all pertinent facts associated with the occasion or justification for the request, along with a copy of the requester's valid photo identification. Only the subject, a parent of a minor, or legal guardian may request notification of whether the system of records contains a record pertaining to the subject. The following information must be included in the request:

(a) General Background Information

• Date of request

• Purpose/justification for request

• Document requested

• Number of documents requested

• Current mailing address, daytime telephone number, and e-mail address

• Each parent's name

• Each parent's date and place (state/country) of birth

(b) Previous Passport Information (If Known)

• Date of issuance

• Passport number

• Date of inclusion (passport issued in another name but included you)

(c) Current Passport Information

• Name of bearer

• Date of issuance

• Passport number (if known)

A request to search Passport Records, State-26, will be treated also as a request to search Overseas Citizens Services Records, State-05, when it pertains to passport, registration, citizenship, birth, or death records transferred from State-05 to State-26. Requests should be mailed to the following address: Department of State; Passport Services; Office of Law Enforcement Liaison Division; Room 500; 1111 19th Street NW., Washington, DC 20523-1705. Responses to such requests will consist of a letter indicating the records that exist in the passport records system. Additional information regarding applicable fees, third-party requests, certified copies, and frequently asked questions is available at http://www.travel.state.gov/passport/services/copies/copies_872.html.

RECORD ACCESS AND AMENDMENT PROCEDURES:

Individuals who wish to gain access to or amend records pertaining to themselves or their minor children should write to the appropriate address listed below. There are several ways individuals may gain access to or amend passport records pertaining to themselves or their minor children. First, individuals may request access to records in their name and the records of any minor children under the Privacy Act of 1974, 5 U.S.C. 552a (2010). Alternatively, third parties may request access to records under the guidelines of the Freedom of Information Act, 5 U.S.C. 552 (2010). Additionally, individuals may request access to their passport and/or vital records through the applicable Passport Office request process, as described below. Access may be granted to third parties to the extent provided under applicable laws and regulations. Please refer to http://www.travel.state.gov for detailed information regarding applicable fees, third-party requests certified copies and frequently asked questions. The appropriate methods by which passport records and vital records may be requested are as follows:

I. Privacy Act of 1974 and Freedom of Information Act

Under the Privacy Act of 1974, individuals have the right to request access to their records at no charge, and to request that the Department of State amend any such records that they believe are not accurate, relevant, timely or complete, 5 U.S.C. 552a(d)(2) (2010). Additionally, third parties may request passport and vital records information from 1925 to the present, within the guidelines of the Privacy Act and/or the Freedom of Information Act, 5 U.S.C. 552 (2010). Written requests for access to or amendment of records must comply with the Department's regulations published at 22 CFR part 171 (2010).

In accordance with 22 CFR 171.32 and 171.33, amendment requests must include the following information:

(a) Verification of personal identity (including full name, current address, and date and place of birth), either notarized or submitted under penalty of perjury;

(b) Any additional information if it would be needed to locate the record at issue;

(c) A description of the specific correction requested;

(d) An explanation of why the existing record is not accurate, relevant, timely or complete; and

(e) Any available documents, arguments or other data to support the request.

Requests under the Privacy Act and/or the Freedom of Information Act must be made in writing to the following office: Director; Office of Information Programs and Services; U.S. Department of State; SA-2; Room 8100; 515 22nd Street, NW., Washington, DC 20522-8100.

II. Access to Records Through the Passport Office Requests Process

A. Passport Records

1. 1925 to the Present

An individual seeking Passport Records must submit a signed and notarized written request including all pertinent facts associated with the occasion or justification for request, along with a copy of the requester's valid photo identification. Only the subject, a parent (if the subject is a minor), legal representative, or law enforcement authority may request for notification of whether the system of records contains a record pertaining to the subject. The following information must be included in the request:

General Background Information

• Date of request

• Purpose/Justification for request

• Document requested

• Number of documents requested

• Current mailing address, daytime telephone number, and e-mail address

• Each parent's name

• Each parent's date and place (state/country) of birth

Previous Passport Information (if known)

• Date of issuance

• Passport number

• Date of inclusion (passport issued in another name but included you)

Current Passport Information

• Name of bearer

• Date of issuance

• Passport number (if known)

All requests for passport records issued from 1925 to the present should be submitted to the following address: Department of State; Passport Services; Law Enforcement Liaison Division; Room 500; 1111 19th Street, NW., Washington, DC 20522-1705.

2. Prior to 1925

The National Archives and Records Administration maintains records for passport issuances prior to 1925, which may be requested by writing to the following address: National Archives and Records Administration; Archives 1; Reference Branch; 8th & Pennsylvania Ave., NW., Washington, DC 20408-0002.

B. Vital Records—Certificates of Birth Abroad, Report of Death, Certificate of Witness to Marriage, Panama Canal Zone birth and death certificates, and Certification of No Record

An individual seeking Passport Records must submit a signed and notarized written request including all pertinent facts associated with the occasion or justification for request, along with a copy of the requester's valid photo identification. Only the subject, a parent of a minor, or legal representative may request for notification of whether the system of records contains a record pertaining to him/her. The following information must be included in the request:

General Background Information

• Date of request

• Purpose of request

• Document Requested (Certificate of Birth, Report of Death, Certificate of Witness of Marriage (prior to 1985), PCZ birth or death certificate, or Certification of No Record).

• Number of documents requested

• Current mailing address and daytime telephone number

Facts of Birth, Death, or Marriage

• Name (at birth/death/marriage)

• Name after adoption (if applicable)

• Country of birth/death/marriage

• Each parent's full name and date and place (state/country) of birth

Previous Passport Information (If Known)

• Passport used to first enter the United States (if applicable).

• Name of bearer

• Date of issuance

• Passport number

• Date of inclusion (if applicable, and if passport was not issued to the subject)

Current Passport Information

• Name of bearer

• Date of issuance

• Passport number (if known)

If requesting an amendment or correction to a Consular Report of Birth Aboard, please include certified copies of all documents appropriate for effecting the change (i.e., foreign birth certificate, marriage certificate, court ordered adoption or name change, birth certificates of adopting or legitimating parents, etc.). If the subject has reached majority, only the subject can request the record be amended or corrected. The original or replacement FS-240, or a notarized affidavit concerning its whereabouts also must be included.

All requests for vital records through the Passport Office Request Process should be mailed to the following address: U.S. Department of State; Passport Services; Vital Records Section; 1111 19th Street, NW., Suite 510, Washington, DC 20522-1705.

CONTESTING RECORD PROCEDURES:

See above.

RECORD SOURCE CATEGORIES:

These records contain information obtained primarily from the individual who is the subject of these records; law enforcement agencies; investigative intelligence sources, investigative security sources and officials of foreign governments.

SYSTEM EXEMPTED FROM CERTAIN PROVISIONS OF THE ACT:

Certain records contained within this system of records may be exempt from the requirements of the Privacy Act for reasons including when it is necessary to:

(a) Protect material required to be kept secret in the interest of national defense and security and foreign policy;

(b) Prevent individuals who are the subject of investigation from frustrating the investigatory process, to ensure the proper functioning and integrity of law enforcement activities, to prevent disclosure of investigative techniques, to maintain the confidence of foreign governments in the integrity of the procedures under which privileged or confidential information may be provided, and to fulfill commitments made to sources to protect their identities and the confidentiality of information and to avoid endangering these sources and law enforcement personnel; or

(c) Preclude impairment of the Department's effective performance in carrying out its lawful protective responsibilities under 18 U.S.C. 3056 and 22 U.S.C. 4802.

Records meeting any of the above criteria are exempt from the following subsections of 5 U.S.C. 552a(c)(3), (d), (e)(1), (e)(4)(G), (e)(4)(H), (e)(4)(I) and (f) 2007). See 22 CFR 171.36(b)(1), (b)(2), and (b)(3) (2007).

[FR Doc. 2011-16898 Filed 7-5-11; 8:45 am]

BILLING CODE 4710-24-P